DEPARTMENT OF COMMERCE

National Oceanic and Atmospheric Administration

Agency Information Collection Activities; Submission to the Office of Management and Budget (OMB) for Review and Approval; Comment Request; Alaska Mariculture Economic Benchmark Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 21, 2024 during a 60-day comment period. This notice allows for an additional 30 days for public comments.

Agency: National Oceanic and Atmospheric Administration, Commerce

Title: Alaska Mariculture Economic Benchmark Survey

OMB Control Number: 0648-XXXX.

Form Number(s): None.

Type of Request: Regular submission [new information collection].

Number of Respondents: 80.

Average Hours per Response: 30 minutes.

Total Annual Burden Hours: 60 hours.

Needs and Uses: This is a request for a new collection of information. Alaska was recently named an Aquaculture Opportunity Area (AOA) under NOAA Fisheries to determine geographic areas that are environmentally, socially, and economically suitable to support commercial aquaculture operations. The purpose of this data collection is to gather economic data from current growers that hold an Aquatic Farming permit under the Alaska Department of Fish & Game to establish a benchmark economic report that presents economic measures (profitability, breakeven price, etc.) and operations (average stocking density, kelp line depth and separation, etc.) spatially.

The data collected from this survey will be used by NOAA economists to generate a benchmark report that states spatial economic information, internal reports on the spatial economic suitability of an Alaskan mariculture operation, and external publications on the financial and environmental risks. These reports will be published on NOAA's website and be publicly accessible for stakeholders, researchers, and other members of the public.

Stakeholders (current and prospective growers) are requesting economic information to help secure small business loans to establish new growing operations and expand current production and describe the economics of opening and operating a mariculture farm in Alaska. Additionally, the economic data provided from this collection will help determine the spatial economic suitability requested from the AOA project. NOAA will use the information provided in the survey to generate a bio economic model that can be simulated under various financial and environmental scenarios. Examples of financial and environmental scenarios include the impact to profitability from subsidies for reductions in seed costs, price floors, and reduced transportation costs from a new production facility and impact to growth and mortality rates from increasing surface water temperatures, dissolved oxygen (DO), and other water parameters and other environmental events such as harmful algae blooms (HAB) or severe storms.

Affected Public: Business or other for-profit organizations; Not-for-profit institutions; Farms.

Frequency: Annually.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-10908 Filed 5-16-24; 8:45 am]

BILLING CODE 3510-22-P